DEPARTMENT OF AGRICULTURE

Forest Service

Olympic Province Advisory Committee

AGENCY: Forest Service, USDA.

ACTION: Notice of meeting.

SUMMARY: The Olympic Peninsula Resource Advisory Committee will meet on August 16, 2007 in Shelton, Washinton. The purpose of the meeting is to recommend funding for Title II proposals submitted under Public Law 106-393, H.R. 2389, the Secure Rural Schools Act of 2000, also called the “Payments to States” Act. The meeting will be held from 9:30 a.m. to 3:30 p.m. at PUD No. 3 Conference Room, 307 W. Cota Street, Shelton, WA 98584.

FOR FURTHER INFORMATION CONTACT: Karl Denison, Olympic Resource Advisory Committee Liaison, USDA, Olympic National Forest Headquarters, 1835 Black Lake Blvd., Olympia, WA 98512-5623, (360) 956-2306.

SUPPLEMENTARY INFORMATION: Individuals, community-based organizations, tribes and government agencies will present the Title II project proposals submitted to the RAC. The meeting is open to the public. Public input opportunity will be provided and individuals will have the opportunity to address the RAC at that time.

Dated: July 5, 2007.
Dale Hom,
Forest Supervisory, Olympic National Forest.

[FR Doc. 07-3458 Filed 7-13-07; 8:45 am]

BILLING CODE 3410-11-M